DEPARTMENT OF THE INTERIOR

Central Utah Project Completion Act

AGENCY: Department of the Interior, Office of the Assistant Secretary—Water and Science.

ACTION: Notice of Availability of the Finding of No Significant Impact Associated with the Environmental Assessment for Wasatch County Water Efficiency Project Recycled Water Project.

SUMMARY: On April 23, 2010, the Department of the Interior (Interior), signed a Finding of No Significant Impact (FONSI) which documents the selection of the Proposed Action as presented in the Final Environmental Assessment (EA) for the Wasatch County Water Efficiency Project Recycled Water Project. Interior has determined that implementing the Proposed Action described in the EA will not have a significant impact on the quality of the human environment and that an environmental impact statement is not required. This project anticipates conveying recycled water in the facilities of the Wasatch County Water Efficiency Project (WCWEP), Bonneville Unit, Central Utah Project (CUP). It would provide an opportunity for more effective and efficient management of water, make efficient use of recycled water, provide opportunities for stream and wetland benefits, and encourage the conservation and wise use of water, all of which are objectives of the CUP Completion Act.

The proposed action would allow recycled water to be conveyed and used in WCWEP facilities and through exchange become CUP water. All water supply commitments under the existing contracts and agreements will continue to be met.

A copy of the Final EA and FONSI may be accessed on the Internet at http://www.cuwcd.com. CD and paper copies can be obtained by contacting: Sarah Sutherland, 355 West University Parkway, Orem, UT 84058, sarah@cuwcd.com, 801.226.7146.

FOR FURTHER INFORMATION CONTACT: Additional information may be obtained by contacting Mr. Lynn Hansen, Central Utah Project Completion Act Office, 302 East 1860 South, Provo, Utah 84606, by calling (801) 379-1238, or e-mail at lhansen@usbr.gov.

Dated: May 24, 2010.
Reed R. Murray,
Program Director, Central Utah Project Completion Act Department of the Interior.

[FR Doc. 2010-13016 Filed 5-28-10; 8:45 am]

BILLING CODE 4310-RK-P